DEPARTMENT OF ENERGY

Federal Energy Regulatory Commission

[Docket No. AD05-1-000]

Principles for Efficient and Reliable Reactive Power Supply and Consumption; Notice of Technical Conference

January 31, 2005.

Take notice that a technical conference will be held on March 8, 2005, from approximately 9 a.m. until 5 p.m. (EST) in the Commission Meeting Room on the second floor of the offices of the Federal Energy Regulatory Commission, 888 First Street, NE., Washington, DC. All interested persons may attend, and registration is not required. Commissioners are expected to participate.

The technical conference will address specific issues raised in the staff report regarding reactive power supply for the nation's bulk power that will be issued on February 4, 2005. The goal of the technical conference is to discuss the proper regulatory policy toward reactive power supply and consumption.

The Commission is now soliciting nominations for speakers at the technical conference. Persons wishing to nominate themselves as speakers should do so using this electronic link: http://www.ferc.gov/whats-new/registration/rp-03-08-speaker-form.asp. Such nominations must be made before the close of business, Friday, February 18, 2005, so that an agenda for the technical conference can be drafted and published.

Transcripts of the conference will be immediately available from Ace Reporting Company (202-347-3700 or 1-800-336-6646) for a fee. They will be available for the public on the Commission's eLibrary system seven calendar days after FERC receives the transcript. Additionally, Capitol Connection offers the opportunity for remote listening and viewing of the conference. It is available for a fee, live over the Internet, by phone or via satellite. Persons interested in receiving the broadcast, or who need information on making arrangements should contact David Reininger or Julia Morelli at the Capitol Connection (703-993-3100) as soon as possible or visit the Capitol Connection Web site at http://www.capitolconnection.gmu.edu and click on “FERC.”

FERC conferences are accessible under section 508 of the Rehabilitation Act of 1973. For accessibility accommodations please send an e-mail to accessibility@ferc.gov or call toll free (866) 208-3372 (voice) or (202) 208-1659 (TTY), or send a fax to (202) 208-2106 with the required accommodations.

For more information about the conference, please contact Derek Bandera at (202) 502-8031 (Derek.bandera@ferc.gov) or Sarah McKinley at (202) 502-8004 (sarah.mckinley@ferc.gov).

Magalie R. Salas,
Secretary.

[FR Doc. E5-452 Filed 2-3-05; 8:45 am]

BILLING CODE 6717-01-P